DEPARTMENT OF COMMERCE

National Oceanic and Atmospheric Administration

RIN 0648-AX32

Taking and Importing Marine Mammals; Taking Marine Mammals Incidental to the Port of Anchorage Marine Terminal Redevelopment Project

AGENCY: National Marine Fisheries Service (NMFS), National Oceanic and Atmospheric Administration (NOAA), Commerce.

ACTION: Notice; receipt of application for rulemaking and subsequent letter of authorization; request for comments and information.

SUMMARY: NMFS has received a request from the Port of Anchorage (Port) and the U.S. Department of Transportation Maritime Administration (MARAD) for authorization to take marine mammals incidental to the Port's Marine Terminal Redevelopment Project (Project) for the period of July 2009 through July 2014. Pursuant to Marine Mammal Protection Act (MMPA) implementing regulations, NMFS is announcing receipt of the Port's request for the development and implementation of regulations governing the incidental taking of marine mammals and inviting information, suggestions, and comments on the Port's application and request.

DATES: Comments and information must be received no later than January 20, 2009.

ADDRESSES: Comments on the application should be addressed to P. Michael Payne, Chief, Permits, Conservation and Education Division, Office of Protected Resources, National Marine Fisheries Service, 1315 East-West Highway, Silver Spring, MD 20910-3225. The mailbox address for providing email comments is PR1.0648-AX32@noaa.gov. Comments sent via e-mail, including all attachments, must not exceed a 10-megabyte file size.

FOR FURTHER INFORMATION CONTACT: Jaclyn Daly, Office of Protected Resources, NMFS, (301) 713-2289.

SUPPLEMENTARY INFORMATION:

Availability

A copy of the Port's application may be obtained by writing to the address specified above (see ADDRESSES), telephoning the contact listed above (see FOR FURTHER INFORMATION CONTACT), or visiting the internet at: http://www.nmfs.noaa.gov/pr/permits/incidental.htm#application.

Background

Sections 101(a)(5)(A) and (D) of the MMPA (16 U.S.C. 1361 et seq.) direct the Secretary of Commerce (Secretary) to allow, upon request, the incidental, but not intentional taking of marine mammals by U.S. citizens who engage in a specified activity (other than commercial fishing) if certain findings are made and regulations are issued or, if the taking is limited to harassment, notice of a proposed authorization is provided to the public for review.

Authorization for incidental takings may be granted if NMFS finds that the taking will have a negligible impact on the species or stock(s), will not have an unmitigable adverse impact on the availability of the species or stock(s) for certain subsistence uses, and if the permissible methods of taking and requirements pertaining to the mitigation, monitoring and reporting of such taking are set forth.

NMFS has defined “negligible impact” in 50 CFR 216.103 as:

an impact resulting from the specified activity that cannot be reasonably expected to, and is not reasonably likely to, adversely affect the species or stock through effects on annual rates of recruitment or survival.Summary of Request

Summary of Request

On November 20, 2008, NMFS received an application from the Port and MARAD requesting authorization for the take of four species of marine mammals incidental to construction activities related to Port expansion, over the course of 5 years. According to the application, the existing dock can no longer be widened nor salvaged due to its advanced age and state of disrepair. The dock supporting the three cranes today was completed in 1961 and its projected life expectancy was 25-30 years. Construction necessitates use of impact and vibratory pile drivers to install open cell sheet, 36 inch steal, and H- piles to construct the waterfront bulkhead structure that will facilitate increased dock space and the fendering system. In-water pile driving would occur during spring, summer, and fall months, annually, until the new port is completed. Demolition involving a chipping hammer is the likely method for removing the present dock; however, blasting may also be required.

The new dock face will include 7,430 ft (2,265 m) of vertical sheet pile wharf and 470 ft (143 m) for a dry barge berth; however, the entire sheet pile wall will extend 9,893 ft (3,015 m) parallel to the shore. The completed marine terminal will include seven modern dedicated ship berths; two dedicated barge berths; rail access; modern shore-side facilities; equipment to accommodate cruise passengers, cement bulk, roll on/roll off and load on/load off cargo, containers, general cargo, Stryker Brigade Combat Team deployments, general cargo on barges, and petroleum, oils, and lubricants; and additional land area to support expanding military and commercial operations.

Harassment to marine mammals could occur from in-water pile driving and during demolition of the existing dock. In 2008, NMFS issued the Port and MARAD a one-year Incidental Harassment Authorization (IHA) authorizing harassment of Cook Inlet beluga whales (Delphinapterus leucas), harbor porpoises (Phocoena phocoena), killer whales (Orcinus orca), and harbor seals (Phoca vitulina). Included in the conditions are mitigation and monitoring measures. Monitoring reports collected under this IHA will provide valuable marine mammal, specifically beluga whale, presence/absence, temporal, group size and composition, and behavioral data as well as any observed effects from exposure to pile driving noise.

NMFS prepared an Environmental Assessment on the Issuance of an Incidental Harassment Authorization and Subsequent Rulemaking for Take of Small Numbers of Marine Mammals Incidental to the Port of Anchorage Terminal Redevelopment Project, Anchorage, Alaska for its issuance of the 2008 IHA, which analyzes and discusses potential impacts on marine mammals and their habitat from the specified activity. In summary, harassment from pile driving associated with the Project may result in short-term, mild to moderate behavioral and physiological responses but will not exceed Level B harassment due to animals' natural reaction to avoid loud sounds and implementation of mitigation measures (e.g., mandatory shut downs). Anticipated behavioral reactions of marine mammals include altered headings, fast swimming, changes in dive, surfacing, respiration, and feeding patterns, and changes in vocalizations. Physiologically, increased stress hormone production may occur. In its analysis for issuance of the IHA, NMFS determined harassment would be limited to Level B, will have a negligible impact on affected marine mammal species or stocks, and will not have an unmitigable adverse impact on the availability of such species or stock for taking for subsistence purposes. To date, monitoring reports have indicated no adverse reactions or abrupt change in behavior of beluga whales to in-water pile driving operations.

Demolition activities will also be subject to monitoring and mitigation measuresthat are likely to be similar to those for pile driving (e.g., establishment of safety zones, shut down procedures, etc.). NMFS intends to prepare a supplemental EA to analyze impacts from demolition and establishment of modified, extended safety and harassment isopleths, as determined from the 2008 acoustic study conducted by the Port.

A detailed description of the Project can be found in the application and the NMFS prepared EA. These documents can be found at http://www.nmfs.noaa.gov/pr/permits/incidental.htm#applications

Information Solicited

Interested persons may submit information, suggestions, and comments concerning the Port's and MARAD's request (see ADDRESSES). All information, suggestions, and comments related to the request and NMFS' development and implementation of regulations governing the incidental taking of marine mammals by the Port will be considered by NMFS in developing, if appropriate, regulations governing the issuance of letters of authorization.

Dated: December 15, 2008.
James H. Lecky,
Director, Office of Protected Resources, National Marine Fisheries Service.

[FR Doc. E8-30107 Filed 12-17-08; 8:45 am]

BILLING CODE 3510-22-S